SUSQUEHANNA RIVER BASIN COMMISSION

Notice of Public Comment and Public Hearings

AGENCY: Susquehanna River Basin Commission.

ACTION: Notice of public comment and public hearings.

SUMMARY: The Susquehanna River Basin Commission (SRBC) has released its draft revised Comprehensive Plan for a 90-day public review and comment period. To facilitate public comment, three public hearings will be held on the draft Plan. Details concerning the subject matter of the public hearings are contained in the Supplementary Information section of this notice.

DATES: Public Hearings—(1) July 8, 2008 at 2 p.m.; (2) July 9, 2008 at 2 p.m.; (3) July 10, 2008 at 10 a.m.; Comment Period—May 19, 2008 to August 18, 2008.

ADDRESSES: (1) July 8—Treadway Inn and Suites, 1100 State Route17C, Owego, NY 13827; (2) July 9—Days Inn and Conference Center, 50 Sheraton Drive, Danville, PA 17821; (3) July 10—Best Western Eden Resort, 222 Eden Road, Lancaster, PA 17603.

FOR FURTHER INFORMATION CONTACT: The draft Comprehensive Plan can be obtained from SRBC's Web site at http://www.srbc.net/programs/planning/compplanfiles.asp or by calling Deborah Dickey at (717) 238-0422, ext.301.

SUPPLEMENTARY INFORMATION: As noted in the summary, the purpose of the 90-day comment period is to receive comments on a proposed revision of the entire SRBC Comprehensive Plan and the hearings are being held in conjunction with the 90-day public comment period. The Comprehensive Plan provides an overarching framework for SRBC to manage and develop the basin's water resources and serves as a guide for all SRBC programs and activities, as required by the Susquehanna River Basin Compact, U.S. Public Law 91-575. It is further intended as a useful resource for SRBC's member jurisdictions, water resource managers, private sector interests and others in the basin. The Comprehensive Plan was last revised in 1987.

Opportunity To Appear and Comment

Interested parties may appear at the above hearings to offer written or oral comments to the Commission. The chair of the Commission reserves the right to limit oral statements in the interest of time and to otherwise control the course of the hearings. Persons planning to comment at the public hearings should contact Richard A. Cairo, General Counsel, SRBC, 1721 N. Front Street, Harrisburg, PA 17102-2391; (717) 238-0423, Ext. 306 by July 1, 2008. Written comments will also be accepted during the 90-day comment period, which ends August 18, 2008, and may be sent to Mr. Cairo by mail, by e-mail at Comp_Plan_Comments@srbc.net, and by fax at (717) 238-2436.

Authority: Pub. L. 91-575, 84 Stat. 1509 et seq., 18 CFR Parts 806, 807, and 808.

Dated: May 9, 2008.
Thomas W. Beauduy,
Deputy Director.

[FR Doc. E8-11044 Filed 5-15-08; 8:45 am]

BILLING CODE 7040-01-P